NUCLEAR REGULATORY COMMISSION

10 CFR Part 73

[NRC-2023-0173]

Regulatory Guide: Suspicious Activity Reports

AGENCY: Nuclear Regulatory Commission.

ACTION: Final guide; issuance.

SUMMARY: The U.S. Nuclear Regulatory Commission (NRC) is issuing Revision 1 to Regulatory Guide (RG) 5.87, “Suspicious Activity Reports.” This RG provides an approach acceptable to the NRC staff for licensees to use for reporting suspicious activity under NRC regulations, “Physical Protection of Plants and Materials”, to local law enforcement, the Federal Bureau of Investigation, the NRC, and the Federal Aviation Administration.

DATES: Revision 1 to RG 5.87 is available on May 16, 2024.

ADDRESSES: Please refer to Docket ID NRC-2023-0173 when contacting the NRC about the availability of information regarding this document. You may obtain publicly available information related to this document using any of the following methods:

• Federal Rulemaking Website: Go to https://www.regulations.gov and search for Docket ID NRC-2023-0173. Address questions about Docket IDs in Regulations.gov to Stacy Schumann; telephone: 301-415-0624; email: Stacy.Schumann@nrc.gov. For technical questions, contact the individuals listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

Revision 1 to RG 5.87 and the regulatory analysis may be found in ADAMS under Accession Nos. ML23299A172 and ML23200A284, respectively.

Regulatory guides are not copyrighted, and NRC approval is not required to reproduce them.

FOR FURTHER INFORMATION CONTACT: Phil Brochman, Office of Nuclear Security and Incident Response, telephone: 301-287-3691; email: Phil.Brochman@nrc.gov and Stanley Gardocki, Office of Nuclear Regulatory Research, telephone: 301-415-1067; email: Stanley.Gardocki@nrc.gov. Both are staff of the U.S. Nuclear Regulatory Commission, Washington, DC 20555-0001.

SUPPLEMENTARY INFORMATION:

I. Discussion

The NRC is issuing a revision in the NRC's “Regulatory Guide” series. This series was developed to describe methods that are acceptable to the NRC staff for implementing specific parts of the agency's regulations, to explain techniques that the staff uses in evaluating specific issues or postulated events, and to describe information that the staff needs in its review of applications for permits and licenses.

Proposed Revision 1 to RG 5.87, “Suspicious Activity Reports Under 10 CFR part 73,” was issued with a temporary identification of Draft Regulatory Guide, (DG)-5082 (ADAMS Accession No. ML23198A151).

This revision of the guide (Revision 1) provides additional guidance on suspicious activity reporting. These new and updated requirements are part of the NRC's final rule, titled “Enhanced Weapons, Firearms Background Checks, and Security Event Notifications” (hereafter the Enhanced Weapons rule), that was published in the Federal Register on March 14, 2023 (88 FR 15864). These provisions are found in the NRC's regulations under section 73.1215 of title 10 of the Code of Federal Regulations (10 CFR). Revision 1 to RG 5.87 provides acceptable methods that eligible applicants and licensees (collectively referred to as licensees in this RG) may use for reporting suspicious activity under NRC regulations. These provisions are found in the NRC's regulations under section 10 CFR 73.1215. Revision 1 to RG 5.87 provides guidance to applicants and licensees regarding an acceptable approach for reporting suspicious activity to local law enforcement agencies, the Federal Bureau of Investigation, the NRC, and the Federal Aviation Administration. Revision 1 to RG 5.87 also includes examples, considerations, and guidance to assist licensees in understanding their responsibilities in implementing 10 CFR 73.1215 requirements.

II. Additional Information

The NRC published a notice of availability of DG-5082 in the Federal Register on October 27, 2023 (88 FR 73769) for a 45-day public comment period. The public comment period closed on December 11, 2023. The NRC staff made changes to DG-5082 in response to public comments. NRC staff responses to public comments on DG-5082 are available in ADAMS under Accession No. ML23299A192.

In addition to the public comments received on DG-5082, the NRC received a public comment on DG-5080, “Proposed Revision 3 to Regulatory Guide 5.62, `Physical Security Event Notifications, Reports, and Records,'” regarding guidance on the topic of the term “Time of discovery.” Guidance on the term “Time of discovery” was also included in DG-5082. Accordingly, the NRC has made conforming changes to the guidance in Revision 1 to RG 5.87 regarding the term “Time of discovery” that are consistent with Revision 3 to RG 5.62 on this same term.

As noted in the Federal Register on December 9, 2022 (87 FR 75671), this document is being published in the “Rules” section of the Federal Register to comply with publication requirements under 1 CFR chapter I.

III. Congressional Review Act

This RG is not a rule as defined in the Congressional Review Act (5 U.S.C. 801-808).

IV. Backfitting, Forward Fitting, and Issue Finality

Issuance of RG 5.87, Revision 1 does not constitute backfitting as defined in 10 CFR 72.62, “Backfitting”; 10 CFR 70.76, “Backfitting”; 10 CFR 50.109, “Backfitting,” and as described in NRC Management Directive (MD) 8.4, “Management of Backfitting, Forward Fitting, Issue Finality, and Information Requests” (ADAMS Accession No. ML18093B087). Also, issuance of RG 5.87, Revision 1 does not constitute forward fitting as that term is defined and described in MD 8.4; and does not affect the issue finality of any approval issued under 10 CFR part 52, “Licenses, Certificates, and Approvals for Nuclear Powerplants.”

V. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: May 13, 2024.
For the Nuclear Regulatory Commission.
Meraj Rahimi,
Chief, Regulatory Guide and Programs Management Branch, Division of Engineering, Office of Nuclear Regulatory Research.

[FR Doc. 2024-10732 Filed 5-15-24; 8:45 am]

BILLING CODE 7590-01-P